DEPARTMENT OF TRANSPORTATION

Federal Highway Administration

Environmental Impact Statement: Salt Lake County, Utah

AGENCY: Federal Highway Administration (FHWA), DOT.

ACTION: Notice of intent.

SUMMARY: The FHWA is issuing this notice to advise the public that an environmental impact statement will be prepared for proposed transportation improvements in Salt Lake County, Utah.

FOR FURTHER INFORMATION CONTACT: Mike Morrow, Field Operations Engineer, Federal Highway Administration, 2520 West 4700 South Suite 9A, Salt Lake City, Utah 84118-1847, Telephone: (801) 963-0182.

SUPPLEMENTARY INFORMATION: The FHWA, in cooperation with the Utah Department of Transportation will prepare an environmental impact statement on proposed transportation improvements in the 11400 South area. The proposed improvements will be developed after a study has been completed to determine the current and future transportation needs in the study area, which extends from 10400 south to 12600 south and from 700 East to Bangerter Highway. The FHWA will evaluate a reasonable range of alternatives including such alternatives as increasing capacity by other methods like changing the facilities at 12300 and/or 10600 South, expanded public transportation system, intelligent transportation system and/or traffic demand management. FHWA will fully evaluate the indirect and cumulative effects of the proposed project as required by law. The proposed project study area lies within Salt Lake County and includes portions of Draper City, Riverton City, Sandy City, and South Jordan City, Utah.

Letters describing the proposed action and soliciting comments will be sent to appropriate Federal, State, and local agencies, and to private organizations and citizens who have previously expressed or are known to have an interest in this proposal. A series of public meetings, including scoping meetings, will be held in the project area. in addition, a public hearing will be held. Public notice will be given of the time and place of the meetings and hearing. The draft EIS will be available for public and agency review and comment prior to the public hearing.

To ensure the full range of issues related to this proposed action and addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: July 22, 2003.
Gregory S. Punske,
Environmental Project Manager, Salt Lake City, Utah.

[FR Doc. 03-19060 Filed 7-25-03; 8:45 am]

BILLING CODE 4910-22-M